DEPARTMENT OF HOMELAND SECURITY

Coast Guard

[CGD08-06-008]

Lower Mississippi River Waterway Safety Advisory Committee

AGENCY: Coast Guard, DHS.

ACTION: Notice of meeting.

SUMMARY: The Lower Mississippi River Waterway Safety Advisory Committee (LMRWSAC) will meet to discuss various issues relating to navigational safety on the Lower Mississippi River and related waterways. The meeting will be open to the public.

DATES: The next meeting of LMRWSAC will be held on Tuesday, April 25, 2006, from 9 a.m. to 12 noon. This meeting may adjourn early if all business is finished. Requests to make oral presentations or submit written materials for distribution at the meeting should reach the Coast Guard on or before April 11, 2006. Requests to have a copy of your material distributed to each member of the committee in advance of the meeting should reach the Coast Guard on or before April 11, 2006.

ADDRESSES: The meeting will be held in the New Orleans Board of Trade, 316 Board of Trade Place, First Floor, Main Trading Room, New Orleans, Louisiana 70130. This notice is available on the Internet at http://dms.dot.gov.

FOR FURTHER INFORMATION CONTACT: Assistant Committee Administrators ENS Ashana Hopson at e-mail ahopson@msoneworleans.uscg.mil or Lieutenant Junior Grade (LTJG) Thao Nguyen at e-mail TNugyen@grunola.uscg.mil. Written materials and requests to make presentations should be mailed to Commander, USCG Sector New Orleans, Attn: WATERWAYS Dept, LMRWSAC Assistant Committee Administrator, 201 Hammond Highway, Metairie, LA 70005.

SUPPLEMENTARY INFORMATION: Notice of this meeting is given under the Federal Advisory Committee Act, 5 U.S.C. App. 2.

Agenda of Meeting

Lower Mississippi River Waterway Safety Advisory Committee (LMRWSAC). The agenda includes the following:

(1) Introduction of committee members.

(2) Opening Remarks.

(3) Approval of the November 15, 2005 minutes.

(4) Old Business:

(a) Captain of the Port status report.

(b) VTS update report.

(c) Subcommittee/Working Group update reports.

(5) New Business.

(6) Adjournment.

Procedural

The meeting is open to the public. Please note that the meeting may close early if all business is finished. At the Chair's discretion, members of the public may make oral presentations during the meeting. If you would like to make an oral presentation at the meeting, please notify the Committee Administrator no later than April 11, 2006. Written material for distribution at the meeting should reach the Coast Guard no later than April 11, 2006. If you would like a copy of your material distributed to each member of the committee in advance of the meeting, please submit 25 copies to the Committee Administrator no later than April 11, 2006.

Information on Services for Individuals With Disabilities

For information on facilities or services for individuals with disabilities, or to request special assistance at the meetings, contact the Committee Administrator at the location indicated under Addresses as soon as possible.

Dated: March 15, 2006.
R.F. Duncan,
Rear Admiral, U.S. Coast Guard, Commander, Eighth Coast Guard District.

[FR Doc. E6-4717 Filed 3-30-06; 8:45 am]

BILLING CODE 4910-15-P